DEPARTMENT OF THE INTERIOR

National Park Service

Reopen Public Comment Period for Environmental Assessment for Proposed Improvements Within Jones Point Park Under the Woodrow Wilson Bridge Project

AGENCY: National Park Service, Interior.

ACTION: Reopen the availability of the Environmental Assessment (EA) for the proposed mitigation to Jones Point Park (JPP), associated with the Woodrow Wilson Bridge project which was originally published in the Federal Register (cite 66 FR 58517) on Wednesday, November 21, 2001.

SUMMARY: Pursuant to Council on Environmental Quality regulations and National Park Service (NPS) policy, the NPS announces the reopening of the availability of an EA for the proposed mitigation to JPP, associated with the Woodrow Wilson Bridge project within the George Washington Memorial Parkway (Parkway). The NPS is soliciting comments on this EA. These comments will be considered in evaluating it and making decisions pursuant to the National Environmental Policy Act (NEPA).

DATES: The EA will remain available for public comment on or before February 11, 2002. Written comments should be received no later than this date.

ADDRESSES: Comments on this EA should be submitted in writing to: Ms. Audrey F. Calhoun, Superintendent, George Washington Memorial Parkway, Turkey Run Park, McLean, Virginia 22101. The EA will be available for public inspection Monday through Friday, 8:00 a.m. through 4:00 p.m. at Parkway Headquarters, Turkey Run Park, McLean, VA, at several libraries in Alexandria, Fairfax and Arlington, Virginia and on the Woodrow Wilson Bridge Project Website at www.wilsonbridge.com.

SUPPLEMENTARY INFORMATION: All interested individuals, agencies, and organizations are urged to provide comments on the EA during this comment extension period. The NPS in making a final decision regarding this matter will consider all comments received by the closing date.

FOR FURTHER INFORMATION CONTACT: Mr. Dan Sealy (703) 289-2531.

Audrey F. Calhoun,
Superintendent, George Washington Memorial Parkway.

[FR Doc. 02-737 Filed 1-10-02; 8:45 am]

BILLING CODE 4310-70-P